DEPARTMENT OF ENERGY

Southwestern Power Administration

Notice of Re-Opening of Public Comment Period for White River Minimum Flows—Proposed Determination of Federal and Non-Federal Hydropower Impacts

AGENCY: Southwestern Power Administration, DOE.

ACTION: Notice of re-opening of public comment period.

SUMMARY: Southwestern Power Administration (Southwestern) is re-opening the public comment period on its proposed determination of the Federal and non-Federal hydropower impacts of the White River Minimum Flows project for an additional 45 days. The original notice, issued July 3, 2008, provided a 30-day comment period ending on August 4, 2008 (73 FR 38198). Southwestern is re-opening the comment period until September 18, 2008.

DATES: The public comment period closes on September 18, 2008. Written comments on Southwestern's proposed determination must be received by that date.

ADDRESSES: Comments should be submitted to George Robbins, Director, Division of Resources and Rates, Southwestern Power Administration, U.S. Department of Energy, One West Third Street, Tulsa, Oklahoma 74103.

FOR FURTHER INFORMATION CONTACT: Mr. George Robbins, Director, Division of Resources and Rates, (918) 595-6680, george.robbins@swpa.gov.

SUPPLEMENTARY INFORMATION: Southwestern's draft determination was published by Federal Register Notice (73 FR 6717) dated February 5, 2008. Written comments were invited through March 6, 2008. All public comments received were considered, and Southwestern's draft determination was revised as necessary to incorporate the public comments. Since there were significant changes to Southwestern's draft determination, Southwestern published a proposed determination for public review and comment prior to its final determination.

Southwestern's proposed determination was published by Federal Register Notice (73 FR 38198) dated July 3, 2008. Written comments were invited through August 4, 2008. Due to requests for additional time to provide public comments, Southwestern is re-opening the public comment period for 45 days. Written comments will now be accepted through September 18, 2008. Comments submitted between August 4, 2008 and August 12, 2008 are deemed timely submitted.

Dated: August 4, 2008.
Jon C. Worthington,
Administrator.

[FR Doc. E8-18574 Filed 8-11-08; 8:45 am]

BILLING CODE 6450-01-P